DEPARTMENT OF DEFENSE

Office of the Secretary

[Transmittal No. 19-55]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-55, Policy Justification and Sensitivity of Technology.

Dated: February 25, 2020.
Aaron T. Siegel,
Alternate OSD Federal Register Liaison Officer, Department of Defense.

Transmittal No. 19-55

Notice of Proposed Issuance of Letter of Offer Pursuant to Section 36(b)(1) of the Arms Export Control Act, as amended

(i) Prospective Purchaser: Government of India

(ii) Total Estimated Value:

Major Defense Equipment * | $ 0.492 billion
Other | $ 1.375 billion
Total | $ 1.867 billion

(iii) Description and Quantity or Quantities of Articles or Services under Consideration for Purchase: India has requested a possible sale of an Integrated Air Defense Weapon System comprised of:

Major Defense Equipment (MDE):

Five (5) AN/MPQ-64Fl Sentinel Radar Systems

One hundred eighteen (118) AMRAAM AIM-120C-7/C-8 Missiles

Three (3) AMRAAM Guidance Sections

Four (4) AMRAAM Control Sections

One hundred thirty-four (134) Stinger FIM-92L Missiles

Non-MDE:

Also included are thirty-two (32) M4A1 rifles; forty thousand three hundred twenty (40,320) M855 5.56mm cartridges; Fire Distribution Centers (FDC); Handheld Remote Terminals; Electrical Optical/Infrared (EO/IR) Sensor Systems; AMRAAM Non-Developmental Item-Airborne Instrumentation Units (NDIAIU); Multi-spectral Targeting System-Model A (MTS-A); Canister Launchers (CN); High Mobility Launchers (HML); Dual Mount Stinger (DMS) Air Defense Systems; Vehicle Mounted Stinger Rapid Ranger Air Defense Systems; communications equipment; tool kits; test equipment; range and test programs; support equipment; prime movers; generators; technical documentation; computer based training equipment; training equipment; training towers; ammunition storage; training and maintenance facilities; infrastructure improvements; U.S. Government and contractor technical support, engineering and logistics support services; warranty services; Systems and Integration Checkout (SICO); field office support; and other related elements of logistics and program support.

(iv) Military Department: Army (IN-B-UAP) and Air Force (IN-D-YAC)

(v) Prior Related Cases, if any: None

(vi) Sales Commission, Fee, etc., Paid, Offered, or Agreed to be Paid: None

(vii) Sensitivity of Technology Contained in the Defense Article or Defense Services Proposed to be Sold: See Attached Annex.

(viii) Date Report Delivered to Congress: February 7, 2020

* As defined in Section 47(6) of the Arms Export Control Act.

POLICY JUSTIFICATION

India—Integrated Air Defense Weapon System (IADWS) and Related Equipment and Support

The Government of India has requested to buy an Integrated Air Defense Weapon System (IADWS) comprised of: five (5) AN/MPQ-64Fl Sentinel radar systems; one hundred eighteen (118) AMRAAM AIM-120C-7/C-8 missiles; three (3) AMRAAM Guidance Sections; four (4) AMRAAM Control Sections; and one hundred thirty-four (134) Stinger FIM-92L missiles. Also included are thirty-two (32) M4A1 rifles; forty thousand three hundred twenty (40,320) M855 5.56mm cartridges; Fire Distribution Centers (FDC); Handheld Remote Terminals; Electrical Optical/Infrared (EO/IR) Sensor Systems; AMRAAM Non-Developmental Item-Airborne Instrumentation Units (NDIAIU); Multi-spectral Targeting System-Model A (MTS-A); Canister Launchers (CN); High Mobility Launchers (HML); Dual Mount Stinger (DMS) Air Defense Systems; Vehicle Mounted Stinger Rapid Ranger Air Defense Systems; communications equipment; tool kits; test equipment; range and test programs; support equipment; prime movers; generators; technical documentation; computer based training equipment; training equipment; training towers; ammunition storage; training and maintenance facilities; infrastructure improvements; U.S. Government and contractor technical support, engineering and logistics support services; warranty services; Systems and Integration Checkout (SICO); field office support; and other related elements of logistics and program support. The total estimated cost is $1.867 billion.

This proposed sale will support the foreign policy and national security of the United States by helping to strengthen the U.S.-Indian strategic relationship and to improve the security of a major defensive partner, which continues to be an important force for political stability, peace, and economic progress in the Indo-Pacific and South Asia region.

India intends to use these defense articles and services to modernize its armed forces, and to expand its existing air defense architecture to counter threats posed by air attack. This will contribute to India's military goal to update its capability while further enhancing greater interoperability between India, the U.S., and other allies. India will have no difficulty absorbing these systems into its armed forces.

The proposed sale of this equipment and support will not alter the basic military balance in the region.

The principal contractors involved in this program are The Raytheon Corporation and Kongsberg Defense and Aerospace. There are no known offset agreements proposed in conjunction with this proposed sale; however, the purchaser typically requests offsets. Any offset agreement will be defined in negotiations between the Purchaser and the prime contractor(s).

Implementation of this proposed sale will require 60 U.S. Government or contractor representatives to travel to India for a period of six weeks (non-concurrent). Activities will include de-processing/fielding, training, and technical/logistics support.

There will be no adverse impact on U.S. defense readiness as a result of this proposed sale.

Transmittal No. 19-55

Notice of Proposed Issuance of Letter of Offer Pursuant to Section 36(b)(1) of the Arms Export Control Act

Annex

Item No. vii

(vii) Sensitivity of Technology:

1. The Integrated Air Defense Weapon System (IADWS) is a System of Systems (SOS) consisting of the National Advanced Surface-to-Air Missile System (NASAMS), a Very Short Range Air Defense (VSHORAD) capability consisting of the Stinger FIM-92 Reprogrammable Micro-Processor (RMP) Block I missile, and small arms. The IADWS is designed for mid-range air defense and can be deployed to engage fixed wing and rotary wing aircraft, cruise missiles, and unmanned aerial vehicles (UAVs). The IADWS is not a Program of Record (POR) for the U.S. Department of Defense, but the SOS architecture does consist of four PORs: The U.S. Army's AN/MPQ-64 Sentinel radar, the U.S. Army's FIM-92L Stinger Missile, U.S. Air Force's Multi-Spectral Targeting System-A (MTS-A), and the U.S. Air Force's AIM-120 Advanced Medium Range Air-to-Air Missile (AMRAAM). The NASAMS is comprised of U.S. and Norwegian manufactured components. Norwegian components will be procured by the Raytheon Company. Norwegian involvement will be managed by Raytheon using export authorizations received from the U.S. Department of State.

2. The NASAMS Fire Unit (FU) consists of one fire distribution center (FDC), one AN/MPQ-64F1 surveillance, acquisition, and tracking radar, 3 truck-mounted Canister Launchers (LCHR) and the High Mobility Launcher (HML) with 6 AMRAAM missiles each, and one truck-mounted Electrical Optical/Infrared (EO/IR) Sensor System, the MTS-A, for visual target identification and raid size assessment.

3. The command and control entity, FDC, is the major operator interface in NASAMS. It provides all command and control functionality necessary to effectively conduct Air Defense missions, both in a stand-alone (autonomous) configuration as well as in a netted configuration integrated to other units. The FDC interfaces and controls the MPQ-64F1 Sentinel radar, the MTS-A EO/IR Sensor and the Canister and High Mobility-Launchers. In addition, it interfaces and sends commands to any connected Very Short Range Air Defense (VSHORAD) Stinger platforms. The FDC also interfaces (voice and data) to the national command and control structure.

4. The AN/MPQ-64F1 Sentinel Radar is the organic mobile Air Defense acquisition and tracking sensor for the United States Army. Sentinel provides persistent air surveillance and fire control quality data through command and control systems to defeat Unmanned Aerial System (UAS), cruise missiles, and fixed-wind and rotary-wing aircraft threats.

5. The purpose of the Canister Launcher (LCHR) and the High Mobility Launcher (HML) is to transport, aim, and fire the AMRAAM missiles. Under the remote control of the Fire Distribution Center (FDC), the LCHR/HML permits rapid launching of one or more missiles against single or multiple targets. The LCHR/HML provides 360-degree, all weather, day and night, missile launch capability.

6. The AN/AAS-52 and AN/AAS-44C(V) Multi-Spectral Targeting System-A (MTS-A) is a multi-use infrared (IR), electro optical (EO), and laser detecting ranging-tracking set originally developed and produced for use by airborne platforms. This advanced EO and IR system provides long-range surveillance, target acquisition, target tracking, range finding, and laser designation. It has been adapted for towers, aerostats, and ground based applications.

7. The AIM-120C-7/C-8 Advanced Medium Range Air-to-Air Missile (AMRAAM) is a supersonic, aerial intercept, guided missile featuring digital technology and micro-miniature solid-state electronics that is also able to operate as a ground-based air defense missile capable in all-weather against multiple targets in a sophisticated electronic attack resistance to electronic countermeasure, and interception of high- and low-flying maneuvering targets. The AIM-120C-8 is a form, fit, function refresh of the AIM-120C-7 and is the next generation to be produced.

8. The VSHORAD system consists of the four Dual Mount Stinger (DMS) systems, two Rapid Ranger (RR) Stinger Mobile Integrated Defense Systems, and the Stinger 92L Reprogrammable Micro-Processor (RMP) Block I missile.

9. The Stinger 92L Reprogrammable Micro-Processor (RMP) Block I missile is an infrared homing surface-to-air missile that can be adapted to fire from a wide variety of ground vehicles.

10. The DMS System provides a man-transportable pedestal system that can be used day or night in any environment. The DMS fires two Stinger missiles, and includes fully integrated day/night sights with optical zoom capability. Included as part of the DMS is a ruggedized tablet from which video output from the visible band day-sight, IR scene from the night-sight, and target cueing data are integrated. Slew-to-cue- information provides guidance to the gunner for target selection. The DMS can interface with the NASAMS FDC for Target Designation and Target Engagement Authorization as well as autonomous operation.

11. The Rapid Ranger (RR) consists of a High Mobility Vehicle operated by a crew of three. The RR is integrated by Raytheon with two Stinger Vehicle Universal Launchers (SVULs), a Fire Control System (FCS), and a Command, Control and Communications (C3) System. The RR can interface with NASAMS FDC for Target Designation and Target Engagement Authorization as well as autonomous operation.

12. This sale is necessary in furtherance of the U.S. foreign policy and national security objectives outlined in the Policy Justification. Moreover, the benefits to be derived from this sale, as outlined in the Policy Justification, outweigh the potential damage that could result if the sensitive technology were revealed to unauthorized persons.

13. All defense articles and services listed in this transmittal have been authorized for release and export to the Government of India.

[FR Doc. 2020-04167 Filed 2-28-20; 8:45 am]

BILLING CODE 5001-06-P